DEPARTMENT OF COMMERCE

National Oceanic and Atmospheric Administration

[I.D. 041105C]

Mid-Atlantic Fishery Management Council; Meetings

AGENCY: National Marine Fisheries Service (NMFS), National Oceanic and Atmospheric Administration (NOAA), Commerce.

ACTION: Notice of public meeting.

SUMMARY: The Mid-Atlantic Fishery Management Council (Council) and its Atlantic Mackerel Committee; its Research Set-Aside Committee; its Surfclam and Ocean Quahog Committee; its Ecosystems Committee; and, its Executive Committee will hold public meetings.

DATES: The meetings will be held Monday, May 2, 2005 through Thursday, May 5, 2005. See SUPPLEMENTARY INFORMATION for specific dates and times of the meetings.

ADDRESSES: This meeting will be at the Princess Royale Oceanfront Hotel and Conference Center, 9100 Coastal Highway, Ocean City, MD 21842 telephone 410-524-2544.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION:

Dates and Times for the Meetings

On Monday, May 2, the Atlantic Mackerel Committee with its Advisory Panel will meet from 1-5 p.m. On Tuesday, May 3, the Atlantic Mackerel Committee will meet from 8a.m.-5 p.m.; the Research Set-Aside Committee will meet from 1-2 p.m.; and, the Surfclam and Ocean Quahog Committee with its Advisory Panel will meet from 2-4 p.m. On Wednesday, May 4, the Ecosystems Committee will meet from 8-10 a.m., and the Council will convene at 10 a.m. From 10 a.m. through 12 noon, Council will approve the March Council meeting minutes and action items from the March Council meeting, hear organizational and liaison reports, hear the Executive Director's Report, and hear a report on the status of the Council's Fishery Management Plans (FMP). From 1-5 p.m., Council will address Amendment 14 and Framework 6 to the Summer Flounder, Scup, and Black Sea Bass FMP; address Amendment 9 to the Atlantic Mackerel, Squid, Butterfish FMP; and, discuss Framework 1 to the Spiny Dogfish FMP. On Thursday, May 5, the Executive Committee will meet from 8-9 a.m. Council will convene at 9 a.m., and from 9-11 a.m., Council will receive presentations from individuals affiliated with NMFS and the University of Rhode Island (URI). At 11 a.m. the Council will receive committee reports and entertain any new and/or continuing business.

Agenda items for the Council's committees and the Council itself are: on Monday, May 2, the Atlantic Mackerel Committee and its advisors will review and discuss comments received regarding a controlled/limited access system for mackerel. On Tuesday, May 3, the Atlantic Mackerel Committee will continue to review and discuss comments regarding a controlled/limited access system for mackerel. The Research Set-Aside Committee will review 2006 Request for Proposals (RFP), and review and comment on changes to NOAA's grant process. The Surfclam and Ocean Quahog Committee and its advisors will review the status of clams/quahogs and assess quota management outcomes including the need, if any, to implement a VMS for the surflcam fleet. On Wednesday, May 4, the Ecosystems Committee will develop a draft questionnaire for state public hearings. Following this committee meeting, the Council will convene to approve the March Council meeting minutes and approve action items from the March Council meeting. The Council will also hear organizational and liaison reports, the Executive Director's report and a report on the status of the MAFMC's FMPs. Council will receive an update on Amendment 14 and Framework 6 to the Summer Flounder, Scup, and Black Sea Bass FMP and address the issue of quota transfers; receive an update on Amendment 9 to the Atlantic Mackerel, Squid, Butterfish FMP; and, Council will review options regarding multi-year setting of specifications for spiny dogfish as proposed in Framework 1 to the Spiny Dogfish FMP and adopt a preferred option for submission to the Secretary. On Thursday, May 5, the Executive Committee will receive reports regarding outcomes from the Council Chairmen's meeting. The Council will convene and hear presentations on NMFS Recreational Fisheries Strategic Plan, and URI's view of the use of property rights in fishery management; hear Committee reports, and entertain any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council=s intent to take final actions to address such emergencies.

Special Accommodations

These meetings are physically accessible to people with disabilities. Requests for sign language interpretation or other auxiliary aids should be directed to Kathy Collins (302-674-2331) at least 5 days prior to the meeting date.

Dated: April 11, 2005.
Emily Menashes,
Acting Director, Office of Sustainable Fisheries, National Marine Fisheries Service.

[FR Doc. E5-1756 Filed 4-13-05; 8:45 am]

BILLING CODE 3510-22-S